DEPARTMENT OF COMMERCE

International Trade Administration

Application for Designation of a Fair

ACTION: Proposed collection; comment request.

SUMMARY: The Department of Commerce, as part of its continuing effort to reduce paperwork and respondent burden, invites the general public and other Federal agencies to take this opportunity to comment on the continuing information collections, as required by the Paperwork Reduction Act of 1955, Public Law 104-13 (44 U.S.C. 3506(c)(2)(A)).

DATES: Written comments must be submitted on or before December 5, 2003.

ADDRESSES: Direct all written comments to Diana Hynek, Departmental Paperwork Clearance Officer, Department of Commerce, Room 6625, 14th and Constitution, NW., Washington, DC 20230 or via the Internet at dHynek@doc.gov.

FOR FURTHER INFORMATION, CONTACT: Requests for additional information or copies of the information collection instrument and instructions should be directed to: Linda Harbaugh, Department of Commerce, ITA, Office of Travel and Tourism Industries, Room 7025, 14th and Constitution Avenue, NW., Washington, DC 20230; Phone: (202) 482-2404; Fax: (202) 482-4279.

SUPPLEMENTARY INFORMATION:

I. Abstract

The International Trade Administration, Service Industries, Tourism & Finance, Office of Travel & Tourism Industries, offers trade fair guidance and assistance to trade fair organizers, trade fair operators, and other travel and trade oriented groups. These fairs open doors to promising trade markets around the world. These trade fairs provide an opportunity for showcasing quality exhibitors and products from around the world. The “Application for Designation of a Fair” is a questionnaire that is prepared and signed by an organizer to begin the certification process. It asks the fair organizer to provide details as to the date, place, and sponsor of the fair, as well as license, permit, and corporate backers, and countries participating. To apply for the U.S. Department of Commerce certification, the fair organizer must have all of the components of the application in order. Then, with the approval, the organizer is able to bring their products into the U.S. in accordance with Customs laws. Articles which may be brought in, include, but are not limited to, actual exhibit items, pamphlets, brochures, and explanatory material in reasonable quantities relating to the foreign exhibits at a trade fair, and material for use in constructing, installing, or maintaining foreign exhibits at a trade fair.

II. Method of Collection

The request is mailed, faxed, or e-mailed from to Department of Commerce, Office of Travel and Tourism Industries, to the Trade Fair Chairperson.

III. Data

OMB Number: 0625-0228.

Form Number: ITA-4135P.

Type of Review: Regular submission.

Affected Public: Business or other for-profit.

Estimated Number of Respondents: 220.

Estimated Time Per Response: 30 minutes.

Estimated Total Annual Burden Hours: 110.

Estimated Total Annual Cost: $2200.

IV. Requested for Comments

Comments are invited on: (a) Whether the proposed collection of information is necessary for the proper performance of the functions of the agency, including whether the information shall have practical utility; (b) the accuracy of the agency's estimate of the burden (including hours and cost) of the proposed collection of information; (c) ways too enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 30, 2003.
Madeleine Clayton,
Management Analyst, Office of the Chief Information Officer.

[FR Doc. 03-25197 Filed 10-3-03; 8:45 am]

BILLING CODE 3510-DR-P